DEPARTMENT OF ENERGY

Federal Energy Regulatory Commission

Sunshine Act Meeting Notice

June 14, 2007.

The following notice of meeting is published pursuant to section 3(a) of the government in the Sunshine Act (Pub. L. No. 94-409), 5 U.S.C 552b:

Agency Holding Meeting: Federal Energy Regulatory Commission.

Date and Time: June 21, 2007, 10 a.m.

Place: Room 2C, 888 First Street, NE., Washington, DC 20426.

Status: Open.

Matters to be Considered: Agenda.

* Note—Items listed on the agenda may be deleted without further notice.

FOR FURTHER INFORMATION CONTACT: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

920th Meeting

Regular Meeting

June 21, 2007, 10 a.m.

Item No. | Docket No. | Company
Administrative
A-1 | AD02-1-000 | Agency Administrative Matters.
A-2 | AD02-7-000 | Customer Matters, Reliability, Security and Market Operations.
A-3 | AD06-3-000 | Energy Market Update.
Electric
E-1 | RM04-7-000 | Market Based Rates for Wholesale Sales of Electric Energy, Capacity and Ancillary Services by Public Utilities.
E-2 | RM06-10-001 | New PURPA Section 210(m) Regulations Applicable to Small Power Production and Cogeneration Facilities.
E-3 | AD07-7-000, RM07-19-000 | Wholesale Competition in Regions with Organized Electric Markets.
E-4 | ER06-615-003, ER06-615-005 | California Independent System Operator Corporation.
E-5 | ER97-4166-018, ER96-780-007, EL04-124-001, EL05-104-000, ER97-4166-021, ER96-780-010, EL04-124-003, EL05-104-001 | Southern Companies Energy Marketing, Inc. and Southern Companies Services, Inc.
E-6 | ER97-4166-022, ER96-780-012, EL04-124-004 | Southern Companies Energy Marketing, L.P. and Southern Companies Services, Inc.
E-7 | ER07-550-000, ER07-550-001 | Midwest Independent Transmission System Operator, Inc.
E-8 | ER05-1410-002, EL05-148-002, ER05-1410-003, EL05-148-003 | PJM Interconnection, L.L.C.
E-9 | EL07-48-000 | Entergy Services, Inc.
E-10 | OMITTED
E-11 | EL07-42-000 | Constellation Energy Commodities Group, Inc.
E-12 | EL07-46-000 | Morgan Stanley Capital Group, Inc. and Barclays Bank, Plc.
E-13 | EL00-95-000 | San Diego Gas & Electric Company v. Sellers of Energy and Ancillary Services.
| EL00-98-000 | Investigation of Practices of the California Independent System Operator and the California Power Exchange.
| EL01-10-000 | Puget Sound Energy, Inc. v. Sellers of Energy and/or Capacity.
| IN03-10-000 | Investigation of Anomalous Bidding Behavior and Practices in Western Markets.
| PA02-2-000 | Fact-Finding Investigation into Possible Manipulation of Electric and Natural Gas Prices PacifiCorp.
| EL03-163-000, EL03-197-000 | PPM Energy, Inc. (f/k/a PacifiCorp Power Marketing, Inc.).
| ER03-746-000 | California Independent System Operator Corporation.
E-14 | EL00-95-194 | San Diego Gas & Electric Company v. Sellers of Energy and Ancillary Services.
| EL00-98-178 | Investigation of Practices of the California Independent System Operator and the California Power Exchange.
| IN03-10-026 | Investigation of Anomalous Bidding Behavior and Practices in Western Markets.
| PA02-2-040 | Fact-Finding Investigation into Potential Market Manipulation of Electric and Natural Gas Prices.
| EL03-179-006, IN01-3-004 | Williams Energy Services Corporation. AES Southland, Inc. Williams Energy Marketing & Trading Inc.
E-15 | EL00-95-191 | San Diego Gas & Electric Company v. Sellers of Energy and Ancillary Services.
| EL00-98-176 | Investigation of Practices of the California Independent System Operator and the California Power Exchange
| EL01-10-021 | Puget Sound Energy, Inc. v. Sellers of Energy and/or Capacity.
| IN03-10-024 | Investigation of Anomalous Bidding Behavior and Practices in Western Markets.
| PA02-2-038 | Fact-Finding Investigation into Possible Manipulation of Electric and Natural Gas Prices.
| EL03-187-006 | El Paso Merchant Energy, L.P.
E-16 | EL05-15-008 | Arkansas Electric Cooperative Corporation v. Entergy Arkansas, Inc.
E-17 | ER07-772-000, ER07-813-000, ER05-1230-001 | Midwest Independent Transmission System Operator, Inc.
E-18 | ER07-805-000 | California Independent System Operator Corporation.
E-19 | ER07-87-000, ER07-87-001 | ISO New England Inc.
E-20 | EL07-69-000 | Western Systems Power Pool Agreement.
| ER91-195-000 | Western Systems Power Pool.
E-21 | EL05-25-001, EL05-25-002, EL05-25-003 | Tenaska Alabama II Partners, L.P. v. Alabama Power Company and Southern Company Services, Inc.
| EL05-26-001, EL05-26-002, EL05-26-003 | Tenaska Alabama Partners, L.P. v. Alabama Power Company and Southern Company Services, Inc.
| EL05-27-001, EL05-27-002, EL05-27-003 | Tenaska Georgia Partners, L.P. v. Georgia Power Company and Southern Company Services, Inc.
E-22 | ER06-448-001 | Southwest Power Pool.
E-23 | QM07-4-000 | American Electric Power Services Corporation. Appalachian Power Company. Columbus Southern Power Company. Indiana Michigan Power Company. Kentucky Power Company. Kingsport Power Company. Ohio Power Company. Wheeling Power Company.
E-24 | OMITTED
E-25 | RM07-18-000 | Elimination of FERC Form 423.
Miscellaneous
M-1 | RM96-1-027 | Standards for Business Practices for Interstate Natural Gas Pipelines.
| RM05-5-001 | Standards for Business Practices for Public Utilities.
Gas
G-1 | RP06-407-000 | Gas Transmission Northwest Corporation.
G-2 | PR07-10-000 | Kinder Morgan Texas Pipeline, L.P.
Hydro
H-1 | P-9401-065 | Mount Hope Waterpower Project, LLP.
H-2 | P-2785-063, P-10808-036, P-10809-030, P-10810-034 | Synex Michigan, LLC.
Certificates
C-1 | RM06-7-001 | Revisions to the Blanket Certificate Regulations and Clarification Regarding Rates.
C-2 | RM07-17-000 | Revisions to Landowner Notification and Blanket Certificate Regulations.
C-3 | CP06-19-001 | Windy Hill Gas Storage, LLC.
C-4 | CP05-18-000 | Equitrans, L.P.
C-5 | CP06-448-000, CP06-448-001 | Natural Gas Pipeline Company of America.
| CP06-449-000, CP06-449-001, CP06-450-000, CP06-450-001, CP06-451-000, CP06-451-001 | Kinder Morgan Louisiana Pipeline LLC.

A free webcast of this event is available through http://www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit http://www.CapitolConnection.org or contact Danelle Perkowski or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Kimberly D. Bose,
Secretary.

[FR Doc. E7-11954 Filed 6-19-07; 8:45 am]

BILLING CODE 6717-01-P